NUCLEAR REGULATORY COMMISSION

[Docket Nos. 50-250 and 50-251; NRC-2018-0101]

Florida Power & Light Company; Turkey Point Nuclear Generating Unit Nos. 3 and 4

AGENCY: Nuclear Regulatory Commission.

ACTION: Final supplemental environmental impact statement.

SUMMARY: The U.S. Nuclear Regulatory Commission (NRC) is issuing a final plant-specific supplement, Supplement 5, Second Renewal, to the Generic Environmental Impact Statement (GEIS) for License Renewal of Nuclear Plants, NUREG-1437, regarding the subsequent renewal of Facility Operating License Nos. DPR-31 and DPR-41 for an additional 20 years of operation for Turkey Point Nuclear Generating Unit Nos. 3 and 4 (Turkey Point). The Turkey Point facility is located in Miami-Dade County, Florida. Possible alternatives to the proposed action (subsequent license renewal) include no action and reasonable replacement power and cooling water alternatives.

DATES: Final Supplement 5, Second Renewal to the GEIS is available as of October 31, 2019.

ADDRESSES: Please refer to Docket ID NRC-2018-0101 when contacting the NRC about the availability of information regarding this document. You may obtain publicly-available information related to this document using any of the following methods:

• Federal Rulemaking Website: Go to https://www.regulations.gov/ and search for Docket ID NRC-2018-0101. Address questions about NRC docket IDs to Anne Frost; telephone: 301-287-9127; email: Jennifer.Borges@nrc.gov. For technical questions, contact the individual listed in the FOR FURTHER INFORMATION CONTACT section of this document.

• NRC's Agencywide Documents Access and Management System (ADAMS): You may access publicly-available documents online in the ADAMS Public Documents collection at https://www.nrc.gov/reading-rm/adams.html. To begin the search, select “Begin Web-based ADAMS Search.”

For problems with ADAMS, please contact the NRC's Public Document Room (PDR) reference staff at 1-800-397-4209, 301-415-4737, or by email to pdr.resource@nrc.gov. The final Supplement 5, Second Renewal is in ADAMS under Accession No. ML19290H346.

• NRC's PDR: You may examine and purchase copies of public documents at the NRC's PDR, Room O1-F21, One White Flint North, 11555 Rockville Pike, Rockville, Maryland 20852.

• Library: The final Supplement 5, Second Renewal is available for public inspection at the following libraries:

Homestead Branch Library, 700 N Homestead Blvd., Homestead, FL 33030;

Naranja Branch Library, 14850 SW 280th St., Homestead, FL 33032;

South Dade Regional Library, 10750 SW 211th St., Miami, FL 33189; and

Downtown Miami Branch, 101 West Flagler St., Miami, FL 33130.

FOR FURTHER INFORMATION CONTACT: Robert Schaaf, Office of Nuclear Reactor Regulation, U.S Nuclear Regulatory Commission, Washington, DC 20555-0001; telephone: 301-415-6020, email: Robert.Schaaf@nrc.gov.

SUPPLEMENTARY INFORMATION:

I. Background

In accordance with section 51.118 of title 10 of the Code of Federal Regulations (10 CFR), the NRC is making available final Supplement 5, Second Renewal to NUREG-1437, regarding the renewal of Florida Power and Light Company's operating licenses DPR-31 and DPR-41 for an additional 20 years of operation for Turkey Point Nuclear Generating Unit Nos. 3 and 4. A Notice of Availability of Draft Supplement 5, Second Renewal to NUREG-1437 was published in the Federal Register on April 5, 2019 (84 FR 13662), by the Environmental Protection Agency. The public comment period on draft Supplement 5, Second Renewal to NUREG-1437 ended on May 20, 2019, and the comments received are addressed in final Supplement 5, Second Renewal to NUREG-1437.

II. Discussion

As discussed in Chapter 5 of final Supplement 5, Second Renewal to NUREG-1437, the NRC staff determined that the adverse environmental impacts of subsequent license renewal for Turkey Point are not so great that preserving the option of subsequent license renewal for energy-planning decisionmakers would be unreasonable. This recommendation is based on: (1) The analysis and findings in the GEIS; (2) information provided in the environmental report and other documents submitted by Florida Power and Light; (3) consultation with Federal, State, local, and Tribal agencies; (4) the NRC staff's independent environmental review; and (5) consideration of public comments received during the scoping process and on the Draft Supplemental Environmental Impact Statement.

Dated at Rockville, Maryland, this 25th day of October, 2019.
For the Nuclear Regulatory Commission.
Robert B. Elliott,
Chief, Environmental Review License Renewal Branch, Division of Rulemaking, Environmental, and Financial Support, Office of Nuclear Material Safety and Safeguards.

[FR Doc. 2019-23730 Filed 10-30-19; 8:45 am]

BILLING CODE 7590-01-P